DEPARTMENT OF COMMERCE

National Oceanic and Atmospheric Administration

[RTID 0648-XF206]

Fisheries of the South Atlantic; South Atlantic Fishery Management Council—Public Meetings

AGENCY: National Marine Fisheries Service (NMFS), National Oceanic and Atmospheric Administration (NOAA), Commerce.

ACTION: Meeting of the South Atlantic Fishery Management Council's Citizen Science Projects Advisory Panel via webinar.

SUMMARY: The South Atlantic Fishery Management Council (Council) will hold a meeting of its Citizen Science Projects Advisory Panel via webinar October 6, 2025.

DATES: The Citizen Science Projects Advisory Panel meeting will be held via webinar on Monday, October 6, 2025, from 1 p.m. until 4 p.m.

ADDRESSES:

Council address: South Atlantic Fishery Management Council, 4055 Faber Place Drive, Suite 201, N Charleston, SC 29405.

Meeting address: The meeting will be held via webinar. The webinar is open to members of the public. Webinar registration, an online public comment form, and briefing book materials will be available two weeks prior to the meeting at: https://safmc.net/advisory-panel-meetings/. There will be an opportunity for public comment at the beginning of the meeting.

FOR FURTHER INFORMATION CONTACT: Julia Byrd, Citizen Science Program Manager, SAFMC; phone 843-302-8439 or toll free 866-SAFMC-10; FAX 843-769-4520; email: julia.byrd@safmc.net.

SUPPLEMENTARY INFORMATION: The Citizen Science Projects Advisory Panel members include representatives from the Council's fishery advisory panels (AP), Habitat & Ecosystem AP, and Outreach and Communications AP. Their responsibilities include identifying citizen science research and data needs across all the Council's fishery management plans; assisting with development of volunteer engagement strategies for recruiting, training, retaining, and communicating with volunteers; and serving as outreach ambassadors for the Program. Agenda items include: reviewing and making recommendations to update the Citizen Science research priorities; an introduction and discussion on ways to measure Citizen Science Program impact; a Citizen Science Program update; and other business.

Special Accommodations

These meetings are physically accessible to people with disabilities. Requests for auxiliary aids should be directed to the council office (see ADDRESSES) 5 days prior to the meeting.

Note: The times and sequence specified in this agenda are subject to change.

(Authority: 16 U.S.C. 1801 et seq.)

Dated: September 12, 2025.
Becky J. Curtis,
Acting Deputy Director, Office of Sustainable Fisheries, National Marine Fisheries Service.

[FR Doc. 2025-17912 Filed 9-16-25; 8:45 am]

BILLING CODE 3510-22-P